DEPARTMENT OF THE INTERIOR

Bureau of Land Management

[AK-024-08-1610-DQ-089L]

Notice of Availability of the Record of Decision for the Kobuk-Seward Peninsula Resource Management Plan/Environmental Impact Statement (RMP/EIS)

AGENCY: Bureau of Land Management, Interior.

ACTION: Notice of Availability of Record of Decision.

SUMMARY: The BLM announces the availability of the Record of Decision (ROD) and Approved RMP for the Kobuk-Seward Peninsula planning area, located in northwest Alaska. The State Director signed the ROD on September 4, 2008 which constitutes the final decision of the BLM and makes the approved RMP effective immediately.

ADDRESSES: Copies of the Kobuk-Seward Peninsula ROD and Approved RMP are available on request from the Field Manager, Central Yukon Field Office, Bureau of Land Management, 1150 University Avenue, Fairbanks, AK 99709, or via the Internet at http://www.blm.gov/ak.

FOR FURTHER INFORMATION CONTACT: Shelly Jacobson, Field Manager, Central Yukon Field Office, 1150 University Avenue, Fairbanks, AK 99709, (907) 474-2200 or toll free (800) 437-7021.

SUPPLEMENTARY INFORMATION: The Kobuk-Seward Peninsula RMP was developed with broad public participation through collaborative planning lasting more than four years. This ROD and Approved RMP addresses management of approximately 11.9 million acres of BLM-administered public land and mineral estate in the planning area. The Kobuk-Seward Peninsula ROD and Approved RMP are designed to achieve or maintain desired future conditions developed through planning. It includes a series of management actions to meet the desired resource conditions for upland and riparian vegetation, wildlife habitats, cultural and visual resources, and recreation.

The Kobuk-Seward Peninsula Approved RMP is the same as Alternative D in the Proposed RMP/Final EIS, published in September 2007 with the exception of certain modifications and clarifications. The BLM received six protests to the Proposed RMP/Final EIS. Four of those who submitted protests were determined to have standing and the BLM Director resolved the protests without requiring significant changes to decisions in the Proposed RMP/Final EIS. The modifications and clarifications to the proposed plan are outlined in the ROD.

No inconsistencies with State or local plans, policies, or programs were identified during the Governor's consistency review of the Proposed RMP/Final EIS.

The ROD and Approved RMP include a decision requiring air taxi operators and transporters to obtain commercial permits to operate in the Squirrel River Special Recreation Management Area. This decision is found in section III.D. Implementation Decisions of the ROD. This is an implementation-level decision appealable to the Interior Board of Land Appeals (IBLA) under 43 CFR Part 4. Any party adversely affected by this decision may appeal within 30 days of publication of this Notice of Availability pursuant to 43 CFR Part 4, Subpart E. Please consult the appropriate regulations for further information on the appeal requirements.

Authority: H-1790-1 National Environmental Policy Act Handbook—January 30, 2008.

Vincent Galterio,
Acting State Director.

[FR Doc. E8-20406 Filed 9-3-08; 8:45 am]

BILLING CODE 4310-JA-P